DEPARTMENT OF ENERGY

Federal Energy Regulatory Commission

Combined Notice of Filings #1

Take notice that the Commission received the following electric corporate filings:

Docket Numbers: EC11-120-000.

Applicants: PECO Energy Company, Exelon Generation Company, LLC.

Description: Joint Application of PECO Energy Co. and Exelon Generation Company LLC for Transaction Approval pursuant to the FPA, Section 203.

Filed Date: 09/26/2011.

Accession Number: 20110926-5147.

Comment Date: 5 p.m. Eastern Time on Monday, October 17, 2011.

Take notice that the Commission received the following exempt wholesale generator filings:

Docket Numbers: EG11-128-000.

Applicants: Record Hill Wind LLC.

Description: Self-Certification of EG of Record Hill Wind LLC.

Filed Date: 09/26/2011.

Accession Number: 20110926-5054.

Comment Date: 5 p.m. Eastern Time on Monday, October 17, 2011.

Take notice that the Commission received the following electric rate filings:

Docket Numbers: ER11-3614-003.

Applicants: Glacial Energy Holdings.

Description: Glacial Energy Holdings submits tariff filing per 35: Substitute Market-Based Rate Filing to be effective 9/26/2011.

Filed Date: 09/26/2011.

Accession Number: 20110926-5057.

Comment Date: 5 p.m. Eastern Time on Monday, October 17, 2011.

Docket Numbers: ER11-4254-001.

Applicants: New England Power Company.

Description: New England Power Company submits tariff filing per 35.17(b): Amendment to Filing of Interconnection Agreement with Lowell Cogeneration to be effective 10/1/2011.

Filed Date: 09/26/2011.

Accession Number: 20110926-5121.

Comment Date: 5 p.m. Eastern Time on Monday, October 17, 2011.

Docket Numbers: ER11-4320-001.

Applicants: Arizona Public Service Company.

Description: Arizona Public Service Company submits tariff filing per 35.17(b): Service Agreement No. 174, Amendment Type Filing to be effective 12/31/9998.

Filed Date: 09/26/2011.

Accession Number: 20110926-5087.

Comment Date: 5 p.m. Eastern Time on Monday, October 17, 2011.

Docket Numbers: ER11-4388-001.

Applicants: Midwest Independent Transmission System Operator, Inc.

Description: Midwest Independent Transmission System Operator, Inc. submits tariff filing per 35.17(b): ITCM Amendment to Cert. of Concurrence to be effective 10/4/2011.

Filed Date: 09/26/2011.

Accession Number: 20110926-5109.

Comment Date: 5 p.m. Eastern Time on Monday, October 17, 2011.

Docket Numbers: ER11-4631-000.

Applicants: Florida Power Corporation.

Description: Florida Power Corporation submits tariff filing per 35.13(a)(2)(iii: Florida Power Corporation Amendment of RS-2 Tariff to be effective 9/26/2011.

Filed Date: 09/26/2011.

Accession Number: 20110926-5037.

Comment Date: 5 p.m. Eastern Time on Monday, October 17, 2011.

Docket Numbers: ER11-4632-000.

Applicants: Southwestern Electric Power Company.

Description: Southwestern Electric Power Company submits tariff filing per 35.13(a)(2)(iii: 20110926 Bentonville PSA to be effective 12/17/2010.

Filed Date: 09/26/2011.

Accession Number: 20110926-5038.

Comment Date: 5 p.m. Eastern Time on Monday, October 17, 2011.

Docket Numbers: ER11-4633-000.

Applicants: Madison Gas and Electric Company.

Description: Madison Gas and Electric Company submits tariff filing per 35.1: Madison Gas and Electric Company Market-Based Rate Tariff Baseline Filing to be effective 9/26/2011.

Filed Date: 09/26/2011.

Accession Number: 20110926-5049.

Comment Date: 5 p.m. Eastern Time on Monday, October 17, 2011.

Docket Numbers: ER11-4634-000.

Applicants: Hazleton Generation LLC.

Description: Hazleton Generation LLC submits tariff filing per 35.1: Hazleton Generation, LLC MBR to be effective 9/26/2011.

Filed Date: 09/26/2011.

Accession Number: 20110926-5056.

Comment Date: 5 p.m. Eastern Time on Monday, October 17, 2011.

Docket Numbers: ER11-4635-000.

Applicants: Hardee Power Partners Limited.

Description: Hardee Power Partners Limited submits tariff filing per 35.1: Eighth Amendments to Agreements for Sale and Purchase of Capacity and Energy to be effective 9/26/2011.

Filed Date: 09/26/2011.

Accession Number: 20110926-5074.

Comment Date: 5 p.m. Eastern Time on Monday, October 17, 2011.

Docket Numbers: ER11-4636-000.

Applicants: Portland General Electric Company.

Description: Portland General Electric Company submits tariff filing per 35.13(a)(2)(iii: Colstrip Project Transmission Agreement to be effective 1/1/2012.

Filed Date: 09/26/2011.

Accession Number: 20110926-5085.

Comment Date: 5 p.m. Eastern Time on Monday, October 17, 2011.

Docket Numbers: ER11-4637-000.

Applicants: NorthWestern Corporation.

Description: NorthWestern Corporation submits tariff filing per 35.13(a)(2)(iii): Colstrip Transmission Agreement to be effective 1/1/2012.

Filed Date: 09/26/2011.

Accession Number: 20110926-5090.

Comment Date: 5 p.m. Eastern Time on Monday, October 17, 2011.

Docket Numbers: ER11-4638-000.

Applicants: Merck & Co., Inc.

Description: Merck & Co., Inc. submits tariff filing per 35.1: Baseline Tariff Filing to be effective 9/25/2011.

Filed Date: 09/26/2011.

Accession Number: 20110926-5091.

Comment Date: 5 p.m. Eastern Time on Monday, October 17, 2011.

Docket Numbers: ER11-4639-000.

Applicants: PacifiCorp.

Description: PacifiCorp submits tariff filing per 35.13(a)(2)(iii): Colstrip Project Transmission Agreement to be effective 1/1/2012.

Filed Date: 09/26/2011.

Accession Number: 20110926-5098.

Comment Date: 5 p.m. Eastern Time on Monday, October 17, 2011.

Docket Numbers: ER11-4640-000.

Applicants: Akula Energy, LLC.

Description: Akula Energy, LLC submits Notice of Cancellation of its Market-Based Rate Tariff.

Filed Date: 09/26/2011.

Accession Number: 20110926-0015.

Comment Date: 5 p.m. Eastern Time on Monday, October 17, 2011.

Docket Numbers: ER11-4641-000.

Applicants: New England Power Company.

Description: New England Power Company submits tariff filing per 35.13(a)(2)(iii): Cost Reimbursement Agreement with Granite Reliable LLC to be effective 8/4/2011.

Filed Date: 09/26/2011.

Accession Number: 20110926-5115.

Comment Date: 5 p.m. Eastern Time on Monday, October 17, 2011.

Docket Numbers: ER11-4642-000.

Applicants: Puget Sound Energy, Inc.

Description: Puget Sound Energy, Inc. submits tariff filing per 35.12: Colstrip TX Agreement Rate Schedule 143 to be effective 1/1/2012.

Filed Date: 09/26/2011.

Accession Number: 20110926-5124.

Comment Date: 5 p.m. Eastern Time on Monday, October 17, 2011.

Docket Numbers: ER11-4643-000.

Applicants: Portland General Electric Company.

Description: Portland General Electric Company submits tariff filing per 35.12: REPSIA between PGE and BPA to be effective 10/1/2011.

Filed Date: 09/26/2011.

Accession Number: 20110926-5127.

Comment Date: 5 p.m. Eastern Time on Monday, October 17, 2011.

Docket Numbers: ER11-4644-000.

Applicants: Idaho Power Company.

Description: Idaho Power Company submits its Average System Cost for sales of electric power to Bonneville Power Administration for 2012-2013 et al.

Filed Date: 09/23/2011.

Accession Number: 20110926-0201.

Comment Date: 5 p.m. Eastern Time on Friday, October 14, 2011.

Docket Numbers: ER11-4645-000.

Applicants: Avista Corporation.

Description: Avista Corporation submits tariff filing per 35.13(a)(2)(iii): Avista Corp FERC Rate Schedule No. 190 to be effective 1/1/2012.

Filed Date: 09/26/2011.

Accession Number: 20110926-5130.

Comment Date: 5 p.m. Eastern Time on Monday, October 17, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 27, 2011.
Nathaniel J. Davis, Sr.,
Deputy Secretary.

[FR Doc. 2011-25642 Filed 10-4-11; 8:45 am]

BILLING CODE 6717-01-P